DEPARTMENT OF COMMERCE

[I.D. 052303D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Gulf of Mexico Red Snapper Individual Fishing Quota Referendum Data Collection.

Form Number(s): None.

OMB Approval Number: None.

Type of Request: Regular submission.

Burden Hours: 102.

Number of Respondents: 200.

Average Hours Per Response: 10 minutes for an initial referendum response; 20 minutes for a subsequent referendum response; and 10 minutes for information regarding vessel captains.

Needs and Uses: NOAA National Marine Fisheries Service (NMFS) needs this data collection to properly implement the referendum procedures specified in the Magnuson-Stevens Fishery Conservation and Management Act (Act). The Act provides that on or after October 1, 2000, the Gulf of Mexico Fishery Management Council may prepare and submit a fishery management plan, plan amendment, or regulation for the Gulf of Mexico commercial red snapper fishery that creates an individual fishing quota (IFQ) program or that authorizes the consolidation of licenses, permits, or endorsements that result in different trip limits for vessels in the same class. These actions can only take place if the preparation of such plan, amendment, or regulation is approved in a referendum, and only if the submission to the Secretary of such plan, amendment, or regulation is approved in a subsequent referendum. NMFS also needs to gather data about vessel captains, who are eligible to participate in the referenda, from permit holders with red snapper endorsements.

Affected Public: Business or other for-profit organizations, individuals or households.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: May 21, 2003.
Gwellnar Banks,
Management Analyst, Office of the Chief Information Officer.

[FR Doc. 03-13425 Filed 5-28-03; 8:45 am]

BILLING CODE 3510-22-S